DEPARTMENT OF ENERGY

Federal Energy Regulatory Commission

[Docket No. PF19-4-000]

Venture Global Delta LNG, LLC; Venture Global Delta Express, LLC; Supplemental Notice of Intent for the Planned Delta LNG and Delta Express Pipeline Project Request for Comments on Environmental Issues Related to Project Modifications Under Consideration

On January 22, 2020, the Federal Energy Regulatory Commission (FERC or Commission) issued a “Supplemental Notice of Intent for the Planned Delta LNG and Delta Express Pipeline Project Request for Comments on Environmental Issues Related to Project Modifications Under Consideration” (Notice). It has come to our ¹ attention that the environmental mailing list was not provided copies of the Notice; therefore we are reissuing this Notice to extend the scoping period and provide additional time for interested parties to file comments on environmental issues.

¹ “We,” “us,” and “our” refer to the environmental staff of the FERC's Office of Energy Projects.

As previously noticed on July 30 and October 16, 2019, and supplemented herein, the staff of the Commission will prepare an environmental impact statement (EIS) that will discuss the environmental impacts of the Delta LNG and Delta Express Pipeline Project (Project) involving construction and operation of facilities by Venture Global Delta LNG, LLC and Venture Global Delta Express, LLC (collectively referred to as Delta LNG) in Richland, Franklin, Catahoula, Concordia, Avoyelles, St. Landry, Pointe Coupee, West Baton Rouge, Iberville, Ascension, Assumption, Lafourche, Jefferson, and Plaquemines Parishes, Louisiana.

With this Notice we are specifically seeking comments on modifications to the Delta Express Pipeline proposed by Delta LNG on January 10, 2020. Delta LNG incorporated the modifications based on comments from regulatory agencies and landowners, and detailed environmental and constructability considerations. The Commission is issuing this Notice to provide previously and newly identified landowners and other stakeholders an opportunity to comment on the Project modifications.

This Notice is being sent to the Commission's current environmental mailing list for this Project, including newly affected landowners. State and local government representatives should notify their constituents of this planned Project and encourage them to comment on their areas of concern.

If you are a newly affected landowner receiving this Notice, a Delta LNG representative may have already contacted you or may contact you soon about the acquisition of an easement to construct, operate, and maintain the planned facilities. The company would seek to negotiate a mutually acceptable agreement. However, if the Commission approves the Project, that approval conveys with it the right of eminent domain. Therefore, if the easement negotiations fail to produce an agreement, the company could initiate condemnation proceedings in accordance with applicable law.

The FERC is the lead federal agency responsible for conducting the environmental review of the Project. As mentioned above, the Commission's staff is preparing an EIS that discusses the environmental impacts of the Project. The EIS will be used to inform the Commission as it determines whether to approve the Project.

This Notice announces the opening of an additional scoping period the Commission will use to gather input from landowners potentially affected by the Project. Comments may be submitted in writing as described in the public participation section of this Notice. Please note that the scoping period is now extended, and comments on this Notice should be filed with the Commission by March 9, 2020. If you sent comments on this Project prior to the opening of this additional comment period, you do not need to refile your comments. We have received your comments and will use the information in the preparation of the EIS.

Information in this Notice was prepared to notify previously and newly affected landowners of the Project modifications, inform them about the Commission's environmental review process, and instruct them on how to submit comments.

To help potentially affected landowners better understand the Commission and its environmental review process, the “For Citizens” section of the FERC website (www.ferc.gov) provides information about getting involved in FERC jurisdictional projects. A citizens' guide entitled “An Interstate Natural Gas Facility On My Land? What Do I Need to Know?” is also available in this section of the Commission's website. This guide addresses a number of frequently asked questions, including the use of eminent domain and how to participate in the Commission's proceedings.

Summary of the Proposed Project Changes

The Project would involve the construction of a liquefied natural gas (LNG) export terminal in Plaquemines Parish, Louisiana and the approximately 285-mile-long Delta Express Pipeline located within 14 parishes in Louisiana. Domestically sourced natural gas would be transported by the Delta Express Pipeline to the Delta LNG terminal, which would produce, store, and deliver up to 24 million tons per annum of LNG to LNG carriers for export overseas.

Delta LNG previously proposed to construct two parallel 42-inch-diameter pipelines within a single right-of-way and four natural gas-fired compressor stations. Delta LNG no longer proposes to construct the Monterey Compressor Station at milepost (MP) 70.3 in Concordia Parish; the Fordoche Compressor Station at MP 137.9 in Pointe Coupee Parish; or the Belle Rose Compressor Station at MP 200.8 in Assumption Parish.

No modifications of the terminal are proposed. Delta LNG has reduced the facilities associated with the Delta Express Pipeline and now proposes to construct:

• A single 48-inch-diameter pipeline along the previously proposed route; and

• two natural gas-fired compressor stations.

The two compressor stations would consist of the previously planned Alto Compressor Station at MP 0.0 in Richland Parish and the newly proposed Melville Compressor Station at MP 131.2 in Pointe Coupee Parish.

A map depicting the location of the newly proposed Melville Compressor Station is included in appendix 1.²

² The appendices referenced in this Notice will not appear in the Federal Register. Copies of the appendices were sent to all those receiving this Notice in the mail and are available at www.ferc.gov using the link called “eLibrary” or from the Commission's Public Reference Room, 888 First Street NE, Washington, DC 20426, or call (202) 502-8371.

Delta LNG is not proposing any modifications to the planned route of the Delta Express Pipeline.

Public Participation

The Commission offers a free service called eSubscription which makes it easy to stay informed of all issuances and submittals regarding the dockets/projects to which you subscribe. These instant email notifications are the fastest way to receive notification and provide a link to the document files, which can reduce the amount of time you spend researching proceedings. To sign up go to www.ferc.gov/docs-filing/esubscription.asp.

For your convenience, there are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; a comment on a particular project is considered a “Comment on a Filing”; or

(3) You can file a paper copy of your comments by mailing them to the following address. Be sure to reference the Project docket number (PF19-4-000) with your submission: Kimberly D. Bose, Secretary, Federal Energy Regulatory Commission, 888 First Street NE, Room 1A, Washington, DC 20426

Please note this is not your only public input opportunity; please refer to the review process flow chart in appendix 2.

The EIS Process

The EIS will discuss impacts that could occur as a result of the construction and operation of the planned Project under these general headings:

• Geology and soils;

• water resources and wetlands;

• vegetation, fisheries, and wildlife;

• threatened and endangered species;

• cultural resources;

• land use;

• socioeconomics;

• air quality and noise;

• public safety; and

• cumulative impacts.

Commission staff will also evaluate possible alternatives to the planned Project or portions of the Project and make recommendations on how to lessen or avoid impacts on the various resource areas.

Although no formal application has been filed, Commission staff have initiated a NEPA review under the Commission's pre-filing process. The purpose of the pre-filing process is to encourage early involvement of interested stakeholders and to identify and resolve issues before the Commission receives an application. As part of the pre-filing review, Commission staff have contacted federal and state agencies to discuss their involvement in the scoping process and the preparation of the EIS.

The EIS will present Commission staffs' independent analysis of the issues. The draft EIS will be available in electronic format in the public record through eLibrary ³ and the Commission's website (https://www.ferc.gov/industries/gas/enviro/eis.asp). If eSubscribed, you will receive instant email notification when the draft EIS is issued. The draft EIS will be issued for an allotted public comment period. After the comment period on the draft EIS, Commission staff will consider all timely comments and revise the document, as necessary, before issuing a final EIS. To ensure Commission staff have the opportunity to consider and address your comments, please carefully follow the instructions in the Public Participation section, beginning on page 3.

³ For instructions on connecting to eLibrary, refer to the last page of this Notice.

Consultation Under Section 106 of the National Historic Preservation Act

In accordance with the Advisory Council on Historic Preservation's implementing regulations for section 106 of the National Historic Preservation Act, the Commission is using this Notice to initiate consultation with the applicable State Historic Preservation Office, and to solicit their views and those of other government agencies, interested Indian tribes, and the public on the Project's potential effects on historic properties.⁴ The EIS for this Project will document our findings on the impacts on historic properties and summarize the status of consultations under section 106.

⁴ The Advisory Council on Historic Preservation regulations are at Title 36, Code of Federal Regulations, part 800. Those regulations define historic properties as any prehistoric or historic district, site, building, structure, or object included in or eligible for inclusion in the National Register of Historic Places.

Currently Identified Environmental Issues

Commission staff have already identified several issues that deserve attention based on a preliminary review of the planned facilities and the environmental information provided by Delta LNG. This preliminary list of issues may change based on your comments and our analysis:

• Impacts on wetlands including coastal marsh and forested wetlands;

• cumulative impacts on air quality, noise, wetlands, socioeconomics, and other resources associated with construction and operation of the planned Delta LNG export terminal and the nearby Plaquemines LNG export terminal and other large projects at various stages of planning and construction in the region;

• LNG terminal site alternatives;

• Delta Express Pipeline route alternatives;

• Environmental Justice impacts; and

• alternative construction methods and workspace configurations that would avoid or reduce impacts.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project. Commission staff will update the environmental mailing list as the analysis proceeds to ensure that Commission notices related to this environmental review are sent to all individuals, organizations, and government entities interested in and/or potentially affected by the planned Project.

A Notice of Availability of the draft EIS will be sent to the environmental mailing list and will provide instructions to access the electronic document on the FERC's website (www.ferc.gov). If you need to make changes to your name/address, or if you would like to remove your name from the mailing list, please return the attached “Mailing List Update Form” (appendix 3).

Becoming an Intervenor

Once Delta LNG files its application with the Commission, you may want to become an “intervenor,” which is an official party to the Commission's proceeding. Only intervenors have the right to seek rehearing of the Commission's decision and be heard by the courts if they choose to appeal the Commission's final ruling. An intervenor formally participates in the proceeding by filing a request to intervene pursuant to Rule 214 of the Commission's Rules of Practice and Procedures (18 CFR 385.214). Motions to intervene are more fully described at http://www.ferc.gov/resources/guides/how-to/intervene.asp. Please note that the Commission will not accept requests for intervenor status at this time. You must wait until the Commission receives a formal application for the Project, after which the Commission will issue a public notice that establishes an intervention deadline.

Additional Information

Additional information about the Project is available from the Commission's Office of External Affairs, at (866) 208-FERC, or on the FERC website (www.ferc.gov) using the eLibrary link. Click on the eLibrary link, click on “General Search” and enter the docket number in the “Docket Number” field, excluding the last three digits (i.e., PF19-4). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Public sessions or site visits, if any are planned, will be posted on the Commission's calendar located at www.ferc.gov/EventCalendar/EventsList.aspx along with other related information.

Dated: February 6, 2020.
Nathaniel J. Davis, Sr.,
Deputy Secretary.

[FR Doc. 2020-02813 Filed 2-11-20; 8:45 am]

BILLING CODE 6717-01-P